DEPARTMENT OF COMMERCE

Foreign-Trade Zones Board

[B-43-2019]

Foreign-Trade Zone (FTZ) 176—Rockford, Illinois; Authorization of Production Activity; Staal & Plast USA, Inc. (Irrigation Trays); Sycamore, Illinois

On June 24, 2019, Staal & Plast USA, Inc., submitted a notification of proposed production activity to the FTZ Board for its facility within FTZ 176, in Sycamore, Illinois.

The notification was processed in accordance with the regulations of the FTZ Board (15 CFR part 400), including notice in the Federal Register inviting public comment (84 FR 31833, July 3, 2019). On October 22, 2019, the applicant was notified of the FTZ Board's decision that no further review of the activity is warranted at this time. The production activity described in the notification was authorized, subject to the FTZ Act and the FTZ Board's regulations, including Section 400.14.

Dated: October 22, 2019.
Andrew McGilvray,
Executive Secretary.

[FR Doc. 2019-23356 Filed 10-24-19; 8:45 am]

BILLING CODE 3510-DS-P